DEPARTMENT OF COMMERCE

National Oceanic and Atmospheric Administration

[RTID 0648-XB814]

Marine Mammals; File No. 26375

AGENCY: National Marine Fisheries Service (NMFS), National Oceanic and Atmospheric Administration (NOAA), Commerce.

ACTION: Notice; receipt of application.

SUMMARY: Notice is hereby given that Jay Rotella Ph.D., Montana State University, 310 Lewis Hall, Bozeman, MT 59717, has applied in due form for a permit to conduct research on Weddell seals (Leptonychotes weddellii).

DATES: Written, telefaxed, or email comments must be received on or before March 28, 2022.

ADDRESSES: The application and related documents are available for review by selecting “Records Open for Public Comment” from the “Features” box on the Applications and Permits for Protected Species (APPS) home page, https://apps.nmfs.noaa.gov, and then selecting File No. 26375 from the list of available applications. These documents are also available upon written request via email to NMFS.Pr1Comments@noaa.gov.

Written comments on this application should be submitted via email to NMFS.Pr1Comments@noaa.gov. Please include File No. 26375 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to evaluate how temporal variation in the marine environment affects individual life-histories, immigration, and the dynamics of a population of long-lived mammal in Antarctica, primarily in Erebus Bay. This application requests permission to annually capture, tag and release up to 1,205 Weddell Seals (820 pups; 385 adults), to weigh up to 150 Weddell seal pups 35 days after birth, to collect tissue samples from 300 Weddell seals (150 pups; 150 adults), and to approach up to 2,770 Weddell seals a maximum of eight times to read tags. All samples will be transported via the U.S. Antarctic Program through Christchurch, New Zealand to institutions in the United States where they will be archived for various assays and studies. A maximum of eight crabeater seals (Lobodon carcinophagus), and two leopard seals (Hydrurga leptonyx) may be unintentionally harassed annually. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 17, 2022.
Julia M. Harrison,
Chief, Permits and Conservation Division, Office of Protected Resources, National Marine Fisheries Service.

[FR Doc. 2022-03892 Filed 2-23-22; 8:45 am]

BILLING CODE 3510-22-P